POSTAL SERVICE

39 CFR Parts 243, 265, and 266

Conforming Amendments Concerning the Production or Disclosure of Material or Information

AGENCY: Postal Service™.

ACTION: Final rule.

SUMMARY: The Postal Service is amending its regulations to make technical and conforming edits following changes to the Postal Service's regulations concerning the Freedom of Information Act.

DATES: These regulations are effective March 8, 2017.

FOR FURTHER INFORMATION CONTACT: Natalie A. Bonanno, Chief Counsel, Federal Compliance, natalie.a.bonanno@usps.gov, 202-268-2944.

SUPPLEMENTARY INFORMATION: The Postal Service amended its regulations concerning compliance with the Freedom of Information Act (FOIA) effective December 27, 2016 (81 FR 86270). The Postal Service responded to comments and made one additional change to these regulations on January 10, 2017 (82 FR 2896). The Postal Service is now amending its regulations to update cross references that are affected by these amendments, correct the cited fee for duplication, and correct a cross reference in subsection 265.14(e)(1) concerning lists of names and addresses.

List of Subjects

39 CFR Part 243

Administrative practice and procedure.

39 CFR Part 265

Administrative practice and procedure, Courts, Freedom of information, Government employees.

39 CFR Part 266

Privacy.

For the reasons stated in the preamble, the Postal Service amends 39 CFR chapter I as follows:

PART 243—[AMENDED]

1. The authority citation for part 243 continues to read as follows:

Authority: 39 U.S.C. 501.

2. In § 243.2, revise paragraph (g) to read as follows:

§ 243.2 Quarters.

* * * * *

(g) Service of process on postal premises. Postmasters or other installation heads shall permit service on postal premises of civil and criminal process affecting employees in personal matters, when such service of process will not interfere with postal operations. Process servers should be directed to the postmaster's or installation head's office, where the employee will be called in and service made. Section 265.11 of this chapter contains rules regarding compliance with subpoena duces tecum, court orders, and summonses where official business or official records are involved.

* * * * *

PART 265—[AMENDED]

3. The authority citation for part 265 continues to read as follows:

Authority: 5 U.S.C. 552; 5 U.S.C. App. 3; 39 U.S.C. 401, 403, 410, 1001, 2601; Pub. L. 114-185.

4. In § 265.9, remove the words “paragraph (k)” from paragraph (c) introductory text and add in their place the words “paragraph (j)”; and revise paragraph (c)(2) to read as follows:

§ 265.9 Fees.

* * * * *

(c) * * *

(2) Duplication. Duplication fees shall be charged to all requesters, subject to the restrictions of paragraph (d) of this section. A component shall honor a requester's preference for receiving a record in a particular form or format where it is readily reproducible by the component in the form or format requested. Where photocopies are supplied, the component shall provide one copy per request at a cost of fifteen cents per page. For copies of records produced on tapes, disks, or other media, components shall charge the direct costs of producing the copy, including operator time. Where paper documents must be scanned in order to comply with a requester's preference to receive the records in an electronic format, the requester shall pay the direct costs associated with scanning those materials. For other forms of duplication, components shall charge the direct costs.

* * * * *

5. In § 265.14, revise paragraph (e)(1) to read as follows:

§ 265.14 Rules concerning specific categories of records.

* * * * *

(e) * * *

(1) The Postal Service and its officers and employees shall not make available to the public by any means or for any purpose any mailing list or other list of names and addresses (past or present) of postal patrons or other persons in response to a request under this part except that, upon a request in accordance with the procedures of § 265.3, the Postal Service will, to the extent required by law, provide a listing of postal employees working at a particular postal facility.

* * * * *

PART 266—[AMENDED]

6. The authority citation for part 266 continues to read as follows:

Authority: 39 U.S.C. 401; 5 U.S.C. 552a.

7. In § 266.4, revise paragraph (b)(3) to read as follows:

§ 266.4 Collection and disclosure of information about individuals.

* * * * *

(b) * * *

(3) Names and Addresses of Postal Customers. The disclosure of lists of names or addresses of Postal customers or other persons to the public is prohibited (39 U.S.C. 412). Names or addresses of Postal Service customers will be disclosed only in those cases permitted by 39 CFR 265.14(d) relating to the Release of Information.

* * * * *

Ruth B. Stevenson,
Attorney, Federal Compliance.

[FR Doc. 2017-04480 Filed 3-7-17; 8:45 am]

BILLING CODE 7710-12-P